Memorandum of April 6, 2011

Unified Command Plan 2011

Memorandum for the Secretary of Defense

Pursuant to my authority as Commander in Chief, I hereby approve and direct the implementation of the revised Unified Command Plan.

Consistent with title 10, United States Code, section 161(b)(2) and title 3, United States Code, section 301, you are directed to notify the Congress on my behalf.

You are authorized and directed to publish this memorandum in the Federal Register.

THE WHITE HOUSE,

Washington, April 6, 2011

[FR Doc. 2011-8644

Filed 4-7-11; 11:15 am]

Billing code 5000-04-P